FEDERAL COMMUNICATIONS COMMISSION

47 CFR Parts 0, 1, 27, 90

[ET Docket No. 18-295; FCC 20-51; WT Docket No. 17-200; FCC 20-67, FRS 17383]

Unlicensed Use of the 6 GHz Band; Review of the Commission's Rules Governing the 896-901/935-940 MHz Band

AGENCY: Federal Communications Commission.

ACTION: Final rule; announcement of compliance date.

SUMMARY: In this document, the Commission announces that the Office of Management and Budget has approved the information collection requirements associated with the rules and policies adopted in the Federal Communications Commission's 6 GHz Report and Order, FCC 20-51, making 1,200 megahertz of spectrum in the 6 GHz band (5.925-7.125 GHz) available for unlicensed use, and 900 MHz Report and Order, FCC 20-67, establishing rules for broadband license operations in the 897.5-900.5/936.5-939.5 MHz segment of the 900 MHz band (896-901/935-940 MHz), and that compliance with the new requirements is now required.

DATES: Compliance date: Compliance with 47 CFR 27.1503 and 27.1505, published at 85 FR 43124 on July 16, 2020, is required on February 19, 2021.

FOR FURTHER INFORMATION CONTACT: Jaclyn Rosen, Mobility Division, Wireless Telecommunications Bureau, at (202) 418-0154 or Jaclyn.Rosen@fcc.gov.

SUPPLEMENTARY INFORMATION: This document announces that the Office of Management and Budget (OMB) approved the information collection requirements in 47 CFR 27.1503(b)(1), (b)(2), (b)(3), (c)(1) and 47 CFR 27.1505(a), (b), on December 10, 2020. These rules were adopted in the 6 GHz Order, FCC 20-51, published at 85 FR 31390 on May 26, 2020, and, 900 MHz Report and Order, FCC 20-67, published at 85 FR 43124 on July 16, 2020. Compliance with all new or amended rules adopted in the 6 GHz Order that do not require OMB approval is required as of July 27, 2020, see 85 FR 31390 (May 26, 2020). Compliance with all new or amended rules adopted in the 900 MHz Report and Order that do not require OMB approval is required as of August 17, 2020, see 85 FR 43124 (July 16, 2020).

If you have any comments on the burden estimates listed below, or how the Commission can improve the collections and reduce any burdens caused thereby, please contact Cathy Williams, Cathy.Williams@fcc.gov, regarding OMB Control Number 3060-0798. Please include the OMB Control Number in your correspondence.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on December 10, 2020, for the information collection requirements contained in 47 CFR 27.1503(b)(1), (b)(2), (b)(3), (c)(1) and 27.1505(a), (b). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 27.1503(b)(1), (b)(2), (b)(3), (c)(1), 27.1505(a), (b) is 3060-0798.

The foregoing notice is required by the Paperwork Reduction Act of 1995, Public Law 104-13, October 1, 1995, and 44 U.S.C. 3507.

The total annual reporting burdens and costs for the respondents are as follows:

OMB Control Number: 3060-0798.

OMB Approval Date: December 10, 2020.

OMB Expiration Date: December 31, 2023.

Title: FCC Application for Radio Service Authorization Wireless Telecommunications Bureau; Public Safety and Homeland Security Bureau.

Form Number: FCC Form 601.

Respondents: Individuals and households; Business or other for-profit entities; State, Local or Tribal Government; Not for profit institutions.

Number of Respondents and Responses: 255,552 respondents; 255,552 responses.

Estimated Time per Response: 0.5 hours to 1.25 hours.

Frequency of Response: Recordkeeping requirement; third party disclosure requirement; on occasion reporting requirement and periodic reporting requirement.

Obligation to Respond: Required to obtain or retain benefits. Statutory authority for this information collection is contained in 47 U.S.C. 151, 152, 154, 155(c), 157, 201, 202, 208, 214, 301, 302a, 303, 307, 308, 309, 310, 311, 314, 316, 319, 324, 331, 332, 333, 336, 534, 535 and 554.

Total Annual Burden: 225,808 hours.

Total Annual Cost: $72,474,000.

Privacy Act Impact Assessment: Yes.

Nature and Extent of Confidentiality: The information collected under this collection will be made publicly available. However, to the extent information submitted pursuant to this information collection is determined to be confidential, it will be protected by the Commission. If a respondent seeks to have information collected pursuant to this information collection withheld from public inspection, the respondent may request confidential treatment pursuant to section 0.459 of the Commission's rules for such information.

Needs and Uses: FCC Form 601 is a consolidated, multi-part application form that is used for market-based and site-based licensing for wireless telecommunications services, including public safety, which are filed through the Commission's Universal Licensing System (ULS) or any other electronic filing interface the Commission develops. FCC Form 601 is composed of a main form that contains administrative information and a series of schedules used for filing technical and other information. This form is used to apply for a new license, to amend or withdraw a pending application, to modify or renew an existing license, cancel a license, request a duplicate license, submit required notifications, request an extension of time to satisfy construction requirements, request an administrative update to an existing license (such as mailing address change), or request a Special Temporary Authority License. Respondents are encouraged to submit FCC Form 601 electronically and are required to do so when applying for an authorization for which the applicant was the winning bidder in a spectrum auction.

On April 23, 2020, the Commission adopted a Report and Order and Further Notice of Proposed Rulemaking in ET Docket 18-295, FCC 20-51, (6 GHz Report and Order) that requires temporary fixed microwave licensees to register temporary fixed links in the ULS database in order to receive protection from unlicensed devices operating in the 6 GHz band. Automated frequency coordination (AFC) administrators will use this information to determine where unlicensed devices can operate. Temporary fixed licensees were not previously required to file applications with the Commission when they commenced operation, so this is a new filing requirement. In addition to creating this new filing requirement, two new data fields will be required to describe when the temporary fixed links will be operational, so that the AFCs will know when to protect the temporary fixed links. For this purpose, a “start date” and “end date” will be added to the Form 601, Schedule I.

Further, on May 13, 2020, the Commission adopted a Report and Order, 20-67 (900 MHz Report and Order), which realigned the 900 MHz band to make available six of the band's ten megahertz for the deployment of broadband services and technologies. The 900 MHz band currently is designated for narrowband land mobile radio communications by Business/Industrial/Land Transportation (B/ILT) Pool licensees and Specialized Mobile Radio (SMR) providers. The 900 MHz Report and Order realigned the 900 MHz band to enable a broadband transition from interleaved SMR and B/ILT blocks to one broadband segment and two narrowband segments. To facilitate the transition, the Commission adopted a negotiation-based mechanism which, if private agreements are reached, will make available on a county-by-county basis six megahertz of low-band spectrum for the development of broadband technologies and services, while reserving the remaining four megahertz of the band for continued narrowband operations. If negotiations for the acquisition, relocation, and protection of 900 MHz incumbents in a market are successful and granting an application is otherwise in the public interest, the Commission will issue new initial licenses to applicants meeting eligibility requirements.

The 900 MHz Report and Order established license application requirements, including requirements that an applicant for a new 900 MHz broadband license demonstrate, as part of its application, that it satisfies the eligibility conditions (Eligibility Certification) and submit a plan for transitioning the 900 MHz band in a particular county (Transition Plan), to assess whether a grant of a 900 MHz broadband license is in the public interest.

In addition, the Commission adopted a two-fold performance requirement whereby a 900 MHz broadband licensee must: (1) Provide reliable signal coverage and offer broadband service; and (2) meet either (a) a population coverage requirement, or (b) a geographic coverage requirement.

The information required in this collection will be used to ensure that a grant of a 900 MHz broadband license is in the public interest and to ensure that licensees use 900 MHz spectrum productively, provide service in a timely manner, and promote the provision of innovative services and technologies in unserved areas, particularly rural markets. The collection is also necessary for the Commission to satisfy its oversight responsibilities and/or agency specific/government-wide reporting obligations.

Federal Communications Commission.
Marlene Dortch,
Secretary.

[FR Doc. 2021-00782 Filed 2-18-21; 8:45 am]

BILLING CODE 6712-01-P